SOCIAL SECURITY ADMINISTRATION

Agency Information Collection Activities: Proposed Request

The Social Security Administration (SSA) publishes a list of information collection packages requiring clearance by the Office of Management and Budget (OMB) in compliance with Public Law (Pub. L.) 104-13, the Paperwork Reduction Act of 1995, effective October 1, 1995. This notice covers a collection in use without an OMB number.

SSA is soliciting comments on the accuracy of the agency's burden estimate; the need for the information; its practical utility; ways to enhance its quality, utility, and clarity; and ways to minimize burden on respondents, including the use of automated collection techniques or other forms of information technology. Mail, e-mail, or fax your comments and recommendations on the information collection to the OMB Desk Officer and the SSA Reports Clearance Officer to the following addresses or fax numbers.

(OMB), Office of Management and Budget, Attn: Desk Officer for SSA, Fax: 202-395-6974, E-mail address: OIRA_Submission@omb.eop.gov.

(SSA), Social Security Administration, DCBFM, Attn: Reports Clearance Officer, 1340 Annex Building, 6401 Security Blvd., Baltimore, MD 21235, Fax: 410-965-8783, E-mail address: OPLM.RCO@ssa.gov.

The information collection below is pending at SSA. SSA will submit it to OMB within 60 days from the date of this notice. To be sure we consider your comments, we must receive them no later than March 29, 2010. Individuals can obtain copies of the collection instrument by calling the SSA Reports Clearance Officer or by writing to the above e-mail address.

Centenarian Project Development Worksheets: Face-to-Face Interview; Telephone Interview; Third Party Contact; Unable To Locate—20 CFR 416.204(b) and 422.135—0960-NEW. SSA is conducting interviews with centenary beneficiaries age 103 and older to assess: (1) If the beneficiaries are still living; (2) to prevent fraud, through either identity misrepresentation or representative payee misuse of funds; and (3) to assess the well-being of the beneficiaries. SSA's San Francisco field offices are currently using this survey and we intend to expand its use to all other SSA field offices. Field office personnel obtain the information through one-time, in-person interviews with centenarians. During the interview, SSA employees will make overall observations of the centenarian and their representative payee (if applicable). The interviewer will use the appropriate Centenarian Development Worksheet as a guide for the interview and to document findings. SSA will conduct the interview one time only at the beneficiary's residence or over the phone if a site visit is not possible. Refusal of the interview will not result in the suspension of the centenarian's payments. Respondents are Supplemental Security Income recipients or Social Security beneficiaries 103 years old or older, their representative payees, or caregivers.

Type of Request: Existing information collection in use without an OMB number.

Number of Respondents: 14,000.

Frequency of Response: 1.

Average Burden per Response: 15 minutes.

Estimated Annual Burden: 3,500 hours.

Dated: January 22, 2010.
Faye Lipsky,
Acting Reports Clearance Officer, Social Security Administration.

[FR Doc. 2010-1635 Filed 1-27-10; 8:45 am]

BILLING CODE 4191-02-P